DEPARTMENT OF LABOR

Office of Federal Contract Compliance Programs

[Docket #OFCCP-2025-0100; OMB Control No. 1250-0004]

Proposed Renewal of Information Collection Request; U.S. Department of Labor Office of Federal Contract Compliance Programs Recordkeeping Requirements—38 U.S.C. 4212 Vietnam Era Veterans' Readjustment Assistance Act of 1974, as Amended

AGENCY: Office of Federal Contract Compliance Programs, Labor.

ACTION: Notice; request for public comments.

SUMMARY: The Department of Labor (DOL), as part of its continuing effort to reduce paperwork and respondent burden, conducts a pre-clearance request for comment to provide the general public and Federal agencies with an opportunity to comment on proposed and/or continuing collections of information in accordance with the Paperwork Reduction Act of 1995 (PRA). This request helps to ensure that: requested data can be provided in the desired format; reporting burden (time and financial resources) is minimized; collection instruments are clearly understood; and the impact of collection requirements on respondents can be properly assessed. Currently, the Office of Federal Contract Compliance Programs (OFCCP) is soliciting comments concerning its proposal to obtain approval from the Office of Management and Budget (OMB) to renew the following information collection: “Recordkeeping Requirements—38 U.S.C. 4212 Vietnam Era Veterans' Readjustment Assistance Act of 1974, As Amended” (OMB Control No. 1250-0004). The current OMB approval for this information collection expires on April 30, 2026.

DATES: All comments must be received on or before March 9, 2026.

ADDRESSES: You may submit comments as follows. Please note that late, untimely filed comments will not be considered.

Electronic Submissions: Submit electronic comments in the following way:

• Federal eRulemaking Portal: https://www.regulations.gov. Follow the instructions for submitting comments for OFCCP-2025-0100. Comments submitted electronically, including attachments, to https://www.regulations.gov will be posted to the docket, with no changes. Because your comment will be made public, you are responsible for ensuring that your comment does not include any confidential information that you or a third party may not wish to be posted, such as your or anyone else's Social Security number or confidential business information.

• If your comment includes confidential information that you do not wish to be made available to the public, submit the comment as a written/paper submission.

Written/Paper Submissions: Submit written/paper submissions in the following way:

• Mail/Hand Delivery: Mail or visit DOL-OFCCP, Division of Policy and Program Development, 200 Constitution Avenue NW, Room C-3325, Washington, DC 20210.

• OFCCP will post your comment as well as any attachments, except for information submitted and marked as confidential, in the docket at https://www.regulations.gov.

FOR FURTHER INFORMATION CONTACT: Ashley Romanias, Director, Office of Federal Contract Compliance Programs, 200 Constitution Avenue NW, Washington, DC 20210. Telephone: (202) 693-0101 or toll free at 1-800-397-6251. If you are deaf, hard of hearing, or have a speech disability, please dial 7-1-1 to access telecommunications relay services. Copies of this notice may be obtained in alternative formats (large print, braille, audio recording) upon request by calling the numbers listed above.

SUPPLEMENTARY INFORMATION:

I. Background

OFCCP administers and enforces the Vietnam Era Veterans' Readjustment Assistance Act of 1974, as amended (VEVRAA). Under VEVRAA, as applied by regulation, a business with a federal contract of $200,000 or more is required to treat qualified individuals without discrimination based on their status as a protected veteran in all employment practices. Covered contractors are also required to take affirmative action to employ and advance in employment qualified protected veterans.

II. Desired Focus of Comments

OFCCP is soliciting comments concerning the proposed information collection. OFCCP is particularly interested in comments that:

• Evaluate whether the collection of information is necessary for the proper performance of the functions of the Agency, including whether the information has practical utility;

• Evaluate the accuracy of OFCCP's estimate of the burden related to the information collection, including the validity of the methodology and assumptions used in the estimate;

• Suggest methods to enhance the quality, utility, and clarity of the information to be collected; and

• Minimize the burden of the information collection on those who are to respond, including through the use of appropriate automated, electronic, mechanical, or other technological collection techniques or other forms of information technology, e.g., permitting electronic submission of responses.

Background documents related to this information collection request are available at https://regulations.gov. Questions about the information collection requirements may be directed to the person listed in the FOR FURTHER INFORMATION CONTACT section of this notice.

III. Current Actions

OFCCP seeks the approval of the extension of this information collection in order to carry out its responsibility to enforce VEVRAA. OFCCP has updated the number of respondents, responses, forms, and burden hours from the previous information collection request.

Agency: Office of Federal Contract Compliance Programs.

Type of Review: Renewal of a currently approved collection.

Title of Collection: U.S. Department of Labor Office of Federal Contract Compliance Programs Recordkeeping Requirements—38 U.S.C. 4212 Vietnam Era Veterans' Readjustment Assistance Act of 1974, As Amended.

OMB Control Number: 1250-0004.

Affected Public: Business or other for profit; individuals.

Estimated Number of Respondents: 89,978 Contractor Establishments.

Frequency: On occasion.

Number of Responses: 89,978 Contractor Establishments.

Estimated Average Time per Response: 48.18 hours per Contractor Establishment.

Estimated Total Annual Burden Hours: 4,334,822.

Total Estimated Annual Other Cost Burden: $356,313 (operating and maintenance costs).

Forms: None.

Comments submitted in response to this notice will be summarized and/or included in the request for OMB approval of the proposed information collection request; they will become a matter of public record and will be available at https://www.reginfo.gov.

Authority: 38 U.S.C. 4212.

Ashley Romanias,
Director, Office of Federal Contract Compliance Programs.

[FR Doc. 2026-00047 Filed 1-6-26; 8:45 am]

BILLING CODE 4510-CM-P